DEPARTMENT OF LABOR

Employment and Training Administration

[TA-W-60,281]

Airtex Products LP, Including On-Site Leased Workers of Staffmark and Aid Temporary Services, Inc.; Marked Tree, Arkansas; Notice of Revised Determination on Reconsideration of Alternative Trade Adjustment Assistance

By letter dated February 8, 2007, a company official requested administrative reconsideration regarding Alternative Trade Adjustment Assistance (ATAA) applicable to workers of the subject firm. The negative determination was signed on January 24, 2007, and was published in the Federal Register on February 14, 2007 (72 FR 7087).

The workers of Airtex Products LP, including on-site leased workers of Staffmark and Aid Temporary Services, Inc., Marked Tree, Arkansas were certified eligible to apply for Trade Adjustment Assistance (TAA) on January 24, 2007.

The initial ATAA investigation determined that there was not a significant number of workers in the workers' firm that are 50 years of age or older, and that the skills of the subject worker group are easily transferable to other positions in the local area.

In the request for reconsideration, the company official resubmitted correct employment numbers which show that a significant number or proportion of the worker group of the subject firm are fifty years of age or older. The company official also provided new information confirming that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Airtex Products LP, including on-site leased workers of Staffmark and Aid Temporary Services, Inc., Marked Tree, Arkansas, who became totally or partially separated from employment on or after October 20, 2005 through January 24, 2009, are eligible to apply for trade adjustment assistance under Section 223 of the Trade Act of 1974 and are also eligible to apply for alternative trade adjustment assistance under Section 246 of the Trade Act of 1974.

Signed in Washington, DC, this 21st day of February, 2007.
Elliott S. Kushner,
Certifying Officer, Division of Trade Adjustment Assistance.

[FR Doc. E7-3460 Filed 2-27-07; 8:45 am]

BILLING CODE 4510-FN-P